DEPARTMENT OF STATE

[Delegation of Authority No. 145-19]

Delegation of Authority to the Global AIDS Coordinator Under the United States Leadership Against HIV/AIDS, Tuberculosis, and Malaria Act of 2003 (Superseding Delegation of Authority 145-18 and Delegation No. 279)

By virtue of the authority vested in me by the laws of the United States including by the Foreign Assistance Act of 1961, as amended (22 U.S.C. 2151 et seq.), section 1 of the State Department Basic Authorities Act of 1956, as amended (22 U.S.C. 2651a), Executive Order 12163, as amended, including by Executive Order 13361 of November 16, 2004 (Assignment of Functions under the United States Leadership Against HIV/AIDS, Tuberculosis and Malaria Act of 2003), and Delegation of Authority Number 245 of April 23, 2001, State Department Delegation of Authority No. 145 of February 4, 1980, as amended, is hereby further amended as follows:

Section 1. Section 1(p) is restated as follows:

“(p) To the Global AIDS Coordinator:

Those functions in the United States Leadership Against HIV/AIDS, Tuberculosis, and Malaria Act of 2003 (P.L. 108-25)(Act), as amended, except amendments made by that Act, that were conferred upon the President and delegated to the Secretary of State.”

Section 2. Section 2(a) is amended in paragraph (1) by adding before the semicolon at the end the following:

“: Provided, That the functions under section 104A of the Act shall be exercised subject to the authorities and duties of the Global AIDS Coordinator as contained in section 1(f) of the State Department Basic Authorities Act of 1956”.

Section 3. Notwithstanding any provision of this Delegation of Authority, the Secretary of State and the Deputy Secretary of State may at any time exercise any function delegated by this delegation of authority.

Section 4. This delegation supersedes (1) Delegation of Authority No. 145-18 of February 23, 2004, amending State Department Delegation of Authority No. 145 of February 4, 1980, as amended, and (2) the Delegation of Authority to the Global AIDS Coordinator of November 17, 2004.

This delegation shall be published in the Federal Register.

Dated: December 22, 2004.
Richard L. Armitage,
Deputy Secretary of State, Department of State.
Editorial Note: This document was received at the Office of the Federal Register on April 8, 2005.

[FR Doc. 05-7415 Filed 4-12-05; 8:45 am]

BILLING CODE 4710-10-P